DEPARTMENT OF COMMERCE

Bureau of Industry and Security

Action Affecting Export Privileges; Islamic Republic of Iran Shipping Lines et al.

In the Matter of:

Islamic Republic of Iran Shipping Lines, No. 37, Aseman Tower, Sayyade Shirazee Square, Pasdaran Avenue, P.O. Box 19395-1311, Tehran, Iran; No. 37, Corner of 7th Narenjestan, Sayad Shirazi Square, After Noboyand Square, Pasdaran Avenue, Tehran, Iran;

Tadbir Sanaat Sharif Technology Development Center, First Floor, No. 25, Shahid Siadat Boulevard, North Zanjan Street, Yadegar Emam Highway, Tehran, Iran; Icarus Marine (Pty) Ltd., 1 River Street, Rosebank, Cape Town, South Africa; Respondents.

Starry Shine International Limited, Suite B 12/F, Two Chinachem Plaza, 135 Des Voeux Road, Central, Hong Kong, Peoples Republic of China;

Ghasem Nabipour, Suite B 12/F, Two Chinachem Plaza, 135 Des Voeux Road, Central, Hong Kong, Peoples Republic of China; and No 143 Shahid Lavasani Avenue, Farmanieh, Tehran, Iran;

Ahmad Sarkandi, Suite B 12/F, Two Chinachem Plaza, 135 Des Voeux Road, Central, Hong Kong, Peoples Republic of China; and No 143 Shahid Lavasani Avenue, Farmanieh, Tehran, Iran; and 2 Abbey Road, Barking Essex 1G11 7AX, London, England;

Shawn Hugo de Villiers, 1 River Street, Rosebank, Cape Town, 7700, South Africa; and 39 Myburgii Street, Somerset West, Western Cape, South Africa;

Gunther Migeotte, Titangata 1, N-1630 Gamle Fredrikstad, Norway; and 1 River Street, Rosebank, Cape Town, 7700, South Africa; and P.O. Box 36623, Menlo Park, 0102, South Africa; and 16 Manu Rua, 262 Sprite Avenue, Faerie Glen, 0081, South Africa;

Icarus Design AS, Titangata 1, N-1630 Gamle Fredrikstad, Norway; Related Persons

Order Making Temporary Denial of Export Privileges Applicable to Related Persons

Pursuant to Section 766.23 of the Export Administration Regulations (“EAR” or “Regulations”), the Bureau of Industry and Security (“BIS”), U.S. Department of Commerce, through its Office of Export Enforcement (“OEE”), has requested that I make the temporary denial order that was issued against the above-named Respondents Islamic Republic of Iran Shipping Lines (“IRISL”), Tadbir Sanaat Sharif Technology Development Center (“TSS”), and Icarus Marine (Pty) Ltd. (“Icarus Marine”) on January 23, 2009, and published in the Federal Register on February 6, 2009 (74 FR 6,465) (hereinafter referred to as the “TDO”) applicable to the following entities and individuals, as persons related to the Respondent IRISL or Respondent Icarus Marine:

Starry Shine International Limited, Suite B 12/F, Two Chinachem Plaza, 135 Des Voeux Road, Central, Hong Kong, Peoples Republic of China;

Ghasem Nabipour, Suite B 12/F, Two Chinachem Plaza, 135 Des Voeux Road, Central, Hong Kong, Peoples Republic of China; and No 143 Shahid Lavasani Avenue, Farmanieh, Tehran, Iran;

Ahmad Sarkandi, Suite B 12/F, Two Chinachem Plaza, 135 Des Voeux Road, Central, Hong Kong, Peoples Republic of China; and No 143 Shahid Lavasani Avenue, Farmanieh, Tehran, Iran; and 2 Abbey Road, Barking Essex 1G11 7AX, London, England;

Shawn Hugo de Villiers, 1 River Street, Rosebank, Cape Town, 7700, South Africa; and 39 Myburgii Street, Somerset West, Western Cape, South Africa;

Gunther Migeotte, Titangata 1, N-1630 Gamle Fredrikstad, Norway; and 1 River Street, Rosebank, Cape Town, 7700, South Africa; and P.O. Box 36623, Menlo Park, 0102, South Africa; and 16 Manu Rua, 262 Sprite Avenue, Faerie Glen, 0081, South Africa;

Icarus Design AS, Titangata 1, N-1630 Gamle Fredrikstad, Norway.

I. Background

A. The TDO

The TDO, effective upon issuance on January 23, 2009, denies the export privileges of Respondents IRISL, TSS, and Icarus Marine for 180 days pursuant to Section 766.24 of the Regulations. The TDO issued based upon my review of the evidence and determination that issuance of the TDO was necessary in the public interest to prevent an imminent violation of the Regulations. As more fully set forth in the TDO, the evidence showed, inter alia, that the Respondents were about to violate the EAR by re-exporting a Bladerunner 51 powerboat, the “Bradstone Challenger,” to TSS in Iran for intended use by the Iranian Revolutionary Guard Corps (“IRGC”) Navy. The TDO also discussed evidence indicating that the vessel the M/V “Diplomat” (a/k/a the “Iran Diplomat”) was going to be used to effect that unlawful transaction by transporting the Bradstone Challenger from South Africa to Iran.

The TDO was sent by fax to IRISL, TSS, and Icarus Marine on the same day that it was issued, January 23, 2009. In spite of the issuance of the TDO prohibiting the re-export of the Bradstone Challenger and broadly prohibiting any participation in the export or re-export of other items subject to the Regulations, the Respondents engaged in the re-export of the Bradstone Challenger from South Africa to Iran. Consistent with BIS's evidence and my findings in the TDO, the M/V Diplomat was used to complete the re-export, as the Bradstone Challenger was transported on the Diplomat beginning on or about January 24, 2009. In addition, subsequent to the issuance of the TDO, BIS received a letter from Respondent TSS on January 28, 2009, in which TSS admitted that it was the owner of the Bradstone Challenger. None of the Respondents has appealed or challenged the TDO.

B. Related Persons Notice Letters

Pursuant to Section 766.23, BIS notified Ghasem Nabipour, Ahmad Sarkandi, and Starry Shine International Limited (“Starry Shine”) of its intent to add them as persons related to Respondent IRISL by ownership, control, position of responsibility, affiliation, or other connection in the conduct of trade or business, through letters dated February 2, 2009 and sent to them in accordance with Sections 766.5(b) and 766.23(b). BIS similarly notified Gunther Migeotte, Shawn Hugo de Villiers, and Icarus Design AS of its intent to add them as persons related to Respondent Icarus Marine, through letters dated and sent to them on February 12, 2009. Each of these six notice letters also requested that the respective person provide information to BIS concerning the recipients' role and contractual relationship with either IRISL or Icarus Marine. In addition, the letters requested information regarding affiliates and subsidiaries associated with the recipients and/or Respondents, as well as any other relevant mitigating information and supporting documentation.

Mr. Nabipour and Mr. Sarkandi responded by letters dated February 27, 2009, via a London-based law firm representing both of them. Mr. de Villiers responded by letter dated March 3, 2009, which he submitted on Icarus Marine letterhead and signed as Managing Director of Icarus Marine. No response has been received from Starry Shine, Icarus Design or Mr. Migeotte.

II. Related Persons Under Section 766.23

Section 766.23(a) of the Regulations provides that:

In order to prevent evasion, certain types of orders under [Part 766] may be made applicable not only to the respondent, but also to other persons then or thereafter related to the respondent by ownership, control, position of responsibility, affiliation, or other connection in the conduct of trade or business. Orders that may be made applicable to related persons include those that deny or affect export privileges, including temporary denial orders, and those that exclude a respondent from practice before BIS. 15 CFR 766.23(a).

Section 766.23(b) provides, in pertinent part and in conjunction with Section 766.24, that upon a finding by the Assistant Secretary for Export Enforcement that a TDO should be made applicable to a related person or persons in order to prevent evasion of the TDO, the Assistant Secretary shall amend the TDO by adding those related persons to the TDO. 15 CFR 766.23(b).

III. Findings

Starry Shine

BIS requested that Starry Shine be added to the TDO as a Related Person to Respondent IRISL. BIS has presented evidence indicating, inter alia, that Starry Shine is listed as the owner of the M/V Diplomat, the vessel that was used to re-export the Bradstone Challenger to Iran in violation of the TDO and U.S. export control laws; that Starry Shine's only two directors are Ghasem Nabipour and Ahmad Sarkandi, who themselves are persons related to IRISL (as discussed further below); and that IRISL continues to manage and operate the M/V Diplomat. Starry Shine has not opposed being added to the TDO, either to challenge that it is related to IRISL or that adding it to the TDO is justified to prevent evasion.

BIS also has presented evidence indicating, moreover, that beginning in 2008, Respondent IRISL has engaged in a pattern of evasive conduct with Starry Shine and other related entities, by transferring ownership (or at least nominal ownership) of the M/V Diplomat and other vessels subject to United States Government export restrictions to Starry Shine and other co-located entities established at or about the same time and under the direction of Mr. Nabipour and Mr. Sarkandi. Although listed ownership of these entities has been transferred and they no loner fly under an Iranian flag, IRISL has continued to manage and operate them. Furthermore, in published interviews, IRISL's Chairman has acknowledged the use of such methods to evade U.S. export control sanctions.

For example, from 1985, when the vessel first took sail, until 2008, the M/V Diplomat flew under an Iranian flag, was owned by IRISL, and was named the Iran Mufateh. This ship was added as a blocked vessel in September 2008 by the Department of the Treasury's Office of Foreign Assets Control (“OFAC”) to its list of specially designated nationals (“SDN”), at the same time Respondent IRISL became listed as an SDN. According to the Hong Kong Government corporate registry Web site, as of June 2008, the M/V Diplomat is owned by Starry Shine. Shortly before that listed transfer, Ghasem Nabipour and Ahmad Sarkandi had been appointed as directors of Starry Shine on the same day in March 2008. The M/V Diplomat sails under a Hong Kong flag, but is still operated and managed by IRISL.

Besides the M/V Diplomat, Starry Shine owns two other vessels, the Delight and the Apollo, both of which, like the Diplomat, were owned by IRISL until 2008 and continue to be managed and operated by IRISL. The Delight was also designated as a blocked vessel by OFAC at the same time that the Diplomat was so designated.

BIS also has presented evidence that Starry Shine's only two directors—Mr. Nabipour and Mr. Sarkandi—also are the only two directors of other entities formed and used for the same evasive purposes and co-located with Starry Shine, including at least Top Glacier Company Limited, Top Prestige Trading Limited and Ideal Success Investments Limited. Like Starry Shine, each of those entities is the nominal owner of at least one vessel designated as a blocked vessel by OFAC in September 2008, and, in the case of these three entities, IRISL remains the beneficial owner of those vessels.

Furthermore, even in the short time since the issuance of TDO, IRISL has taken action in an effort to evade U.S. export control laws. In early March 2009, after issuance of the TDO in late January 2009, and its publication and the unlawful re-export of the Bradstone Challenger to Iran via the M/V Diplomat in February 2009, Starry Shine changed the name of the M/V Diplomat to M/V Amplify. Given the suspicious timing of this name change and the fact that it did not result from a change in ownership or management, the evidence indicates that Starry Shine intends to continue working in concert with IRISL and others to evade the TDO and the Regulations and to use the M/V Diplomat for that purpose as well.

Based on the foregoing and the evidence as a whole in this matter, I find that Starry Shine is a person related to IRISL by “ownership, control, position of responsibility, affiliation, or other connection in the conduct of trade or business” pursuant to Section 766.23 of the Regulations, and that the TDO should be made applicable to Starry Shine in order to prevent evasion of that order.

Ghasem Nabipour

BIS requested that Mr. Nabipour be added as a Related Person based on evidence that he is a person related to IRISL, a fact he has admitted in his response, as described in greater detail below. In addition, BIS has also now obtained and presented evidence indicating that Mr. Nabipour likewise is affiliated with other persons related to IRISL, further strengthening BIS's request to add him as a related person.

In his response, Mr. Nabipour admits that he manages the day-to-day ship operations of IRISL and also admits that he “holds a position of responsibility” within IRISL. Mr. Nabipour nonetheless asserts, without supporting citation or authority, that he should not be added to the TDO, arguing that the Regulations cannot apply to any activities of IRISL or any of its employees and also that he is not in a position to contribute or assist in any possible evasion of the TDO.

Mr. Nabipour's first argument is legally incorrect. The TDO discusses why the Bradstone Challenger and its re-export are subject to the Regulations, which presents just one example of various activities of IRISL and its employees that are or could be subject to the Regulations. His second argument is factually incorrect. His admitted relationship, role as shipping manager, and position of responsibility with IRISL show that he is well-positioned to contribute or assist in the evasion of the TDO. In fact, the unlawful re-export of the Bradstone Challenger occurred after IRISL had been served with a copy of the TDO and the re-export occurred via the M/V Diplomat, but Mr. Nabipour failed to take any action to prevent that unlawful re-export in violation of the TDO, and presumably participated in that unlawful conduct given his role and position at IRISL, as well as his role as director of Starry Shine.

Mr. Nabipour's arguments do not address his role as director of Starry Shine, even though the TDO discusses evidence indicating the central role that BIS expected to be played by the M/V Diplomat, and was in fact played by that IRISL-Starry Shine vessel, in the unlawful re-export of the Bradstone Challenger. Nor does Mr. Nabipour address the evasive action taken in the re-naming of the M/V Diplomat in early March 2009, discussed in the Starry Shine section above, or his role in the broader evasion scheme also detailed in the preceding section above as director of Top Glacier Company Limited, Top Prestige Trading Limited and Ideal Success Investments Limited.

Based on the foregoing and the evidence as a whole in this matter, I find that Ghasem Nabipour is a person related to IRISL by “ownership, control, position of responsibility, affiliation, or other connection in the conduct of trade or business” pursuant to Section 766.23 of the Regulations, and that the TDO should be made applicable to Ghasem Nabipour in order to prevent evasion of that order. The evidence also indicates that Ghasem Nabipour is a person related to Starry Shine, which is being added to the TDO pursuant to Section 766.23 and this order.

Ahmad Sarkandi

BIS also requested that Mr. Sarkandi be added as a Related Person to IRISL. BIS presented evidence that Mr. Sarkandi is the Managing Director of IRISL UK, a position he admits holding in his response, which he states owns and operates ships “in international transport,” and admits that he exercises a “position of control” within IRISL UK. He denies being a shareholder or director of IRISL (or a director of Icarus Marine or TSS), but has refused to indicate whether he holds any other position or role within IRISL. IRISL UK is in any event affiliated with IRISL, and Mr. Sarkandi admits that IRISL UK is a member of the “IRISL group.” BIS also introduced evidence that Mr. Sarkandi is Managing Director for IRISL's European Regional Office in the UK, where he has been stationed since 2004.

Like Mr. Nabipour, Mr. Sarkandi mistakenly argues that the Regulations cannot apply in any way to IRISL UK or one of its directors. He also similarly argues that his position at IRISL UK renders him incapable of contributing or assisting in any possible evasion of the TDO. He asserts that his activities of IRISL UK are limited to “managing and expending” IRISL UK's business enterprises in the UK, Germany, Belgium, and Italy. He does not argue, however, that the shipping operations of these enterprises are limited to those countries, indicating instead that IRISL UK owns and operates ships in international transport. The record, in any event, suggests that IRISL's substantial fleet of vessels frequently call at European, as well as Middle Eastern and Asian ports. Mr. Sarkandi refuses to comment on his role at Starry Shine, though like Mr. Nabipour, he was notified of the role that the Starry Shine's M/V Diplomat played in the re-export of the Bradstone Challenger to Iran for use by the IRGC Navy. His response also omitted his role at other entities organized with Mr. Nabipour, purchasing IRISL's blocked vessels, which were discussed above.

Based on the foregoing and the evidence as a whole in this matter, I find that Ahmad Sarkandi is a person related to IRISL by “ownership, control, position of responsibility, affiliation, or other connection in the conduct of trade or business” pursuant to Section 766.23 of the Regulations, and that the TDO should be made applicable to Ahmad Sarkandi in order to prevent evasion of that order. The evidence also indicates that Ahmad Sarkandi is a person related to Starry Shine, which is being added to the TDO pursuant to Section 766.23 and this order.

Shawn Hugo de Villiers

BIS requested that Shawn Hugo de Villiers be added as a Related Person to Respondent Icarus Marine. Mr. de Villiers is Managing Director of Icarus Marine, a fact he has admitted in various communications with BIS, along with the fact that he and Gunther Migeotte are the only two directors of Icarus Marine, where Mr. de Villiers is one of only four employees. He also has provided BIS evidence that his fellow director/officer, Mr. Migeotte, owns Icarus Design, which in turn owns half of Icarus Marine. Mr. de Villiers denies involvement by Icarus Marine in “any dealings as described in the” TDO, including denying knowing “anything about the sale of this boat and that includes its current whereabouts.” He does admit, however, that “we [Icarus Marine] do know the company TSS * * *”. Mr. de Villiers does not elaborate on the nature of that relationship, but denies that Icarus Marine has supplied “any boats or other equipment to TSS in the past 24 months.”

Mr. de Villiers' denials are undermined by the evidence BIS submitted in connection with the issuance of the TDO and by additional evidence it has since obtained or presented indicating that the transaction occurred as described or alleged in the TDO. In addition, given Mr. de Villiers' admitted role at Icarus Marine and his statement concerning the company's small size, assertions that he lacks knowledge of Icarus Marine's dealings or involvement with the Bradstone Challenger, or a transaction as significant as that described in the TDO, are not credible.

His denials are further undermined by TSS's January 28, 2009 letter claiming ownership of the Bradstone Challenger and by information until recently located on TSS's Web site. The TSS Web site, in a statement removed shortly after the TDO was published, stated that TSS has “prosperous cooperation” with “Icarus Design AS (Norway).” The TSS Web site further described Icarus Design as “an engineering and naval architecture company with offices in Alesund Norway and Cape Town[,] South Africa. * * *” While Icarus Design does not have a listed office in South Africa, Icarus Marine's office is located in Cape Town, South Africa. TSS's admitted knowledge of and dealings with that South Africa office, which it apparently considered to be an Icarus Design office or branch office, is an additional indication that, contrary to Mr. de Villiers' denials, Icarus Marine was involved in the re-export of the Bradstone Challenger from South Africa to TSS in Iran for use by the IRGC Navy.

Based on the foregoing and the evidence as a whole in this matter, I find that Shawn Hugo de Villiers is a person related to Icarus Marine by “ownership, control, position of responsibility, affiliation, or other connection in the conduct of trade or business” pursuant to Section 766.23 of the Regulations, and that the TDO should be made applicable to Shawn Hugo de Villiers in order to prevent evasion of that order.

Gunther Migeotte

BIS also requested that Gunther Migeotte be added to the TDO as a Related Person to Respondent Icarus Marine. Mr. Migeotte has not filed any response opposing his addition to the TDO, or responded to BIS's request for information contained in the notice letter, nor has Icarus Design, of which Mr. Migeotte is the sole owner, Chairman, and Managing Director. I also note that Icarus Marine, which he also controls and manages, has not appealed the issuance of the TDO.

BIS has presented open source evidence confirming that Mr. Migeotte is a principal officer and executive director of Icarus Marine. It also has obtained evidence from Shawn Hugo de Villiers, Managing Director of Icarus Marine, that he and Mr. Migeotte are the directors of Icarus Marine and that Mr. Migeotte also is the sole owner and director of Icarus Design, which owns 50 percent of Icarus Marine and maintains a substantial business relationship with Respondent TSS. Icarus Marine participated in and facilitated the sale and unlawful re-export of the Bradstone Challenger to Iran despite the TDO. Given his role at Icarus Marine, indicating that he either directly participated in or at the very least failed to take action to stop or prevent the violation of the TDO, there is a clear need to add him as a related person.

Based on the foregoing and the evidence as a whole in this matter, I find that Gunther Migeotte is a person related to Icarus Marine by “ownership, control, position of responsibility, affiliation, or other connection in the conduct of trade or business” pursuant to Section 766.23 of the Regulations, and that the TDO should be made applicable to Gunther Migeotte in order to prevent evasion of that order. The evidence also indicates that Gunther Migeotte is a person related to Icarus Design AS, which is being added to the TDO pursuant to Section 766.23 and this order (as discussed below).

Icarus Design, AS

BIS requested that Icarus Design, AS be added as a Related Person to Respondent Icarus Marine. Icarus Design, like its director and owner Mr. Migeotte, has not opposed or otherwise responded to BIS's letter notifying Icarus Design of its intent to add Icarus Design as a related person. However, information supplied by Mr. de Villiers in his response letter, which he signed as Managing Director of Icarus Marine, substantiates evidence obtained by BIS that Icarus Marine and Icarus Design are related persons. Icarus Design owns half of Icarus Marine, the other half of which is owned by Icarus Marine Trust. Icarus Design's sole owner and sole director is Mr. Migeotte, who along with Mr. de Villiers, is one of only two directors of Icarus Marine. Moreover, I also note, that Icarus Design also has a business relationship with Respondent TSS.

Based on the foregoing and the evidence as a whole in this matter, I find that Icarus Design, AS is a person related to Icarus Marine by “ownership, control, position of responsibility, affiliation, or other connection in the conduct of trade or business” pursuant to Section 766.23 of the Regulations, and that the TDO should be made applicable to Icarus Design AS in order to prevent evasion of that order.

IV. Order

It is Therefore Ordered: First, that having been provided notice and opportunity for comment as provided in Section 766.23 of the Regulations, Starry Shine International Limited (located at Suite B 12/F, Two Chinachem Plaza, 135 Des Voeux Road, Central, Hong Kong, Peoples Republic of China); Ghasem Nabipour (located at Suite B 12/F, Two Chinachem Plaza, 135 Des Voeux Road, Central, Hong Kong, Peoples Republic of China; and No 143 Shahid Lavasani Avenue, Farmanieh, Tehran, Iran); and Ahmad Sarkandi (located at Suite B 12/F, Two Chinachem Plaza, 135 Des Voeux Road, Central, Hong Kong, Peoples Republic of China; and No 143 Shahid Lavasani Avenue, Farmanieh, Tehran, Iran; and 2 Abbey Road, Barking Essex 1G11 7AX, London, England) (each a “Related Person”), have been determined to be related to Respondent IRISL of Tehran, Iran, by affiliation, ownership, control, or position of responsibility in the conduct of trade or related services, and it has been deemed necessary to make the Order temporarily denying the export privileges of the Respondents applicable to these Related Persons in order to prevent evasion of the Order.

Further, having been provided notice and opportunity for comment as provided in Section 766.23 of the Regulations, Shawn Hugo de Villiers (located at 1 River Street, Rosebank, Cape Town, 7700, South Africa; and 39 Myburgii Street, Somerset West, Western Cape, South Africa); Gunther Migeotte (located at Titangata 1, N-1630 Gamle Fredrikstad, Norway; and 1 River Street, Rosebank, Cape Town, 7700, South Africa; and P.O. Box 36623, Menlo Park, 0102, South Africa; and 16 Manu Rua, 262 Sprite Avenue, Faerie Glen, 0081, South Africa); and Icarus Design (located at Titangata 1, N-1630 Gamle Fredrikstad, Norway) (each a “Related Person”), have been determined to be related to Respondent Icarus Marine (Pty) Ltd., of Cape Town, South Africa, by affiliation, ownership, control, or position of responsibility in the conduct of trade or related services, and it has been deemed necessary to make the Order temporarily denying the export privileges of the Respondents applicable to these Related Persons in order to prevent evasion of the Order.

The individuals and entities designated above as a Related Person (Starry Shine International Limited, Ghasem Nabipour, Ahmad Sarkandi, Shawn Hugo de Villiers, Gunther Migeotte and Icarus Design, AS) are collectively the “Related Persons.”

Second, that the denial of export privileges described in the Orders against Respondents, which were issued on January 23, 2009, and published in the Federal Register on February 6, 2009 at 74 Fed. Reg. 6465, shall be made applicable to each Related Person, as follows:

I. The Related Person, its successors or assigns, and when acting for or on behalf of the Related Person, its officers, representatives, agents, or employees (collectively, “Related Person”) may not, directly or indirectly, participate in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefiting in any way from any transaction involving any item exported or to be exported from the United States that is subject to the Regulations, or in any other activity subject to the Regulations.

II. No person may, directly or indirectly, do any of the following:

A. Export or reexport to or on behalf of the Related Person any item subject to the Regulations;

B. Take any action that facilitates the acquisition or attempted acquisition by the Related Person of the ownership, possession, or control of any item subject to the Regulations that has been or will be exported from the United States, including financing or other support activities related to a transaction whereby the Related Person acquires or attempts to acquire such ownership, possession or control;

C. Take any action to acquire from or to facilitate the acquisition or attempted acquisition from the Related Person of any item subject to the Regulations that has been exported from the United States;

D. Obtain from the Related Person in the United States any item subject to the Regulations with knowledge or reason to know that the item will be, or is intended to be, exported from the United States; or

E. Engage in any transaction to service any item subject to the Regulations that has been or will be exported from the United States and which is owned, possessed or controlled by the Related Person, or service any item, of whatever origin, that is owned, possessed or controlled by the Related Person if such service involves the use of any item subject to the Regulations that has been or will be exported from the United States. For purposes of this paragraph, servicing means installation, maintenance, repair, modification or testing.

Third, that this Order does not prohibit any export, re-export, or other transaction subject to the Regulations where the only items involved that are subject to the Regulations are the foreign-produced direct product of U.S.-origin technology.

Fourth, that in accordance with the provisions of Section 766.23(c) of the Regulations, the Related Persons may, at any time, make an appeal related to this Order by filing a full written statement in support of the appeal with the Office of the Administrative Law Judge, U.S. Coast Guard ALJ Docketing Center, 40 South Gay Street, Baltimore, Maryland 21202-4022.

This Order shall be published in the Federal Register and a copy provided to each Related Person.

This Order is effective upon publication and shall remain in effect until the expiration of the TDO on July 22, 2009, unless renewed in accordance with the Regulations.

Entered this 8th day of April 2009.
Kevin Delli-Colli,
Acting Assistant Secretary of Commerce for Export Enforcement.

[FR Doc. E9-8533 Filed 4-13-09; 8:45 am]

BILLING CODE 3510-DT-P